DEPARTMENT OF AGRICULTURE

Office of Procurement and Property Management

7 CFR Part 3201

RIN 0599-AA24

Designation of Product Categories for Federal Procurement

AGENCY: Office of Procurement and Property Management, USDA.

ACTION: Proposed rule; extension of comment period.

SUMMARY: The U.S. Department of Agriculture (USDA) is extending by 30 days the deadline to submit comments on the proposed rule to designate 12 product categories for federal procurement, which was published on January 13, 2017 (82 FR 4206) under the authority of section 9002 of the Farm Security and Rural Investment Act of 2002 (the 2002 Farm Bill), as amended by the Food, Conservation, and Energy Act of 2008 (the 2008 Farm Bill), and further amended by the Agricultural Act of 2014 (the 2014 Farm Bill), 7 U.S.C. 8102. The 60-day comment period in the proposed rule is scheduled to end on March 14, 2017. The extended comment period will now close on April 13, 2017. In this proposed rule, USDA is proposing to amend the Guidelines for Designating Biobased Products for Federal Procurement (Guidelines) to add 12 sections that will designate the product categories within which biobased products would be afforded procurement preference by Federal agencies and their contractors.

DATES: Comments on the proposed rule published January 13, 2017 (82 FR 4206) must be received on or before April 13, 2017.

ADDRESSES: You may submit comments by any of the following methods. All submissions received must include the agency name and Regulatory Information Number (RIN). The RIN for this rulemaking is 0599-AA24. Also, please identify submittals as pertaining to the “Proposed Designation of Product Categories.”

• Federal eRulemaking Portal: http://www.regulations.gov. Follow the instructions for submitting comments.

• Email: biopreferred_support@amecfw.com. Include RIN number 0599-AA24 and “Proposed Designation of Product Categories” on the subject line. Please include your name and address in your message.

• Mail/commercial/hand delivery: Mail or deliver your comments to: Marie Wheat, USDA, Office of Procurement and Property Management, Room 361, Reporters Building, 300 7th St. SW., Washington, DC 20024.

• Persons with disabilities who require alternative means for communication for regulatory information (Braille, large print, audiotape, etc.) should contact the USDA TARGET Center at (202) 720-2600 (voice) and (202) 690-0942 (TTY).

FOR FURTHER INFORMATION CONTACT: Marie Wheat, USDA, Office of Procurement and Property Management, Room 361, Reporters Building, 300 7th St. SW., Washington, DC 20024; email: biopreferred_support@amecfw.com; phone (202) 239-4502. Information regarding the Federal preferred procurement program (one initiative of the BioPreferred Program) is available on the Internet at http://www.biopreferred.gov.

SUPPLEMENTARY INFORMATION:

Comment Period

USDA is extending the public comment period for an additional 30 days. The public comment period will end on April 13, 2017, instead on March 14, 2017.

List of Subjects in 7 CFR Part 3201

Biobased products, Procurement.

Dated: February 3, 2017.
Malcom Shorter,
Acting Assistant Secretary for Administration, U.S. Department of Agriculture.

[FR Doc. 2017-03288 Filed 2-17-17; 8:45 am]

BILLING CODE 3410-93-P